SMALL BUSINESS ADMINISTRATION

Buffalo District Advisory Council; Notice of Federal Advisory Committee Management Meeting

The U.S. Small Business Administration Buffalo District Advisory Council located in the geographical area of Buffalo, New York, will hold a public Federal advisory meeting on Wednesday, April 18, 2007, starting at 10 a.m. EST.

The meeting will take place at the SBA Disaster Assistance Customer Service Center, located at 130 S. Elmwood Avenue, 5th Floor, Buffalo, New York.

The purpose of the meeting is to discuss the following topics: (1) FY 2007 Mid-year report; (2) SBA Program updates; (3) SBA's Military Reservist Economic Injury Disaster Loan (MREIDL); (4) Disaster Assistance Customer Service Center Tour and Update; (5) District Small Business Week; (6) District SBA Business Matchmaking, Awards Luncheon & Expo; (7) Roundtable Discussion on Small Business Issues.

Anyone wishing to make an oral presentation to the Board must contact Franklin J. Sciortino, District Director, Buffalo District Office, in writing by letter or fax no later than Friday, March 30, 2007, in order to be put on the agenda. Franklin J. Sciortino, District Director, Buffalo District Office, U.S. Small Business Administration, Niagara Center, 540 Niagara Center, 130 S. Elmwood Avenue, Buffalo, New York 14202; telephone (716) 551-4301 or fax (716) 551-4418.

Matthew Teague,
Committee Management Officer.

[FR Doc. E7-5222 Filed 3-21-07; 8:45 am]

BILLING CODE 8025-01-P